DEPARTMENT OF TRANSPORTATION

Federal Aviation Administration

14 CFR Part 39

[Docket No. FAA-2005-21346; Directorate Identifier 2005-NM-031-AD; Amendment 39-14336; AD 2005-20-39]

RIN 2120-AA64

Airworthiness Directives; Boeing Model 737-100, -200, -200C, -300, -400, and -500 Series Airplanes

AGENCY: Federal Aviation Administration (FAA), Department of Transportation (DOT).

ACTION: Final rule.

SUMMARY: The FAA is adopting a new airworthiness directive (AD) for all Boeing Model 737-100, -200, -200C, -300, -400, and -500 series airplanes. This AD requires examining the airplane's maintenance records to determine if the main landing gear (MLG) has been overhauled and if Titanine JC5A (also known as Desoto 823E508) corrosion-inhibiting compound (“CIC”) was used during the overhaul. For airplanes for which the maintenance records indicate that further action is necessary, or for airplanes on which CIC JC5A may have been used during manufacture, this AD requires a one-time detailed inspection for discrepancies of certain components of the MLG, and corrective action if necessary. This AD results from twelve reports of severe corrosion on one or more of three components of the MLG. We are issuing this AD to prevent collapse of the MLG, or damage to hydraulic tubing or the aileron control cables, which could result in possible departure of the airplane from the runway and loss of control of the airplane.

DATES: This AD becomes effective November 17, 2005.

The Director of the Federal Register approved the incorporation by reference of a certain publication listed in the AD as of November 17, 2005.

ADDRESSES: You may examine the AD docket on the Internet at http://dms.dot.gov or in person at the Docket Management Facility, U.S. Department of Transportation, 400 Seventh Street SW., Nassif Building, room PL-401, Washington, DC.

Contact Boeing Commercial Airplanes, P.O. Box 3707, Seattle, Washington 98124-2207, for service information identified in this AD.

FOR FURTHER INFORMATION CONTACT: Nancy Marsh, Aerospace Engineer, Airframe Branch, ANM-120S, FAA, Seattle Aircraft Certification Office, 1601 Lind Avenue, SW., Renton, Washington 98055-4056; telephone (425) 917-6440; fax (425) 917-6590.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to all Boeing Model 737-100, -200, -200C, -300, -400, and -500 series airplanes. That NPRM was published in the Federal Register on June 3, 2005 (70 FR 32534). That NPRM proposed to require operators to examine the airplane's maintenance records to determine if the main landing gear (MLG) has been overhauled and if Titanine JC5A (also known as Desoto 823E508) corrosion-inhibiting compound (“CIC”) was used during the overhaul. For airplanes for which the maintenance records indicate that further action is necessary, or for airplanes on which CIC JC5A may have been used during manufacture, that NPRM proposed to require a one-time detailed inspection for discrepancies of certain components of the MLG, and corrective action if necessary.

Comments

We provided the public the opportunity to participate in the development of this AD. We have considered the comments received.

Support for the NPRM

One commenter expresses support for the NPRM.

Request To Specify “Last Overhaul” in Paragraph (g)(2)

The commenter requests that we revise paragraph (g)(2) to specify that during the records examination, no further action is required by paragraph (g)(2) or paragraph (h) of the NPRM if CIC JC5A was not used on the trunnion pins or other parts of the MLG during the last overhaul. The NPRM merely stated “during the overhaul.” The commenter states that any damage which may have resulted from the use of CIC JC5A at overhauls prior to the last overhaul would have been detected and corrected at the last overhaul, thus any record review of overhauls prior to the last overhaul is unnecessary. The commenter further states that only the last overhaul is of interest in any records examination, and a change to specify the last overhaul would minimize labor expenditure for records research. Furthermore, the commenter states that the change would give paragraph (g)(2) and paragraph (h)(2) a similar structure.

We agree with the commenter for the stated reasons. During each MLG overhaul, all the grease is removed and discrepancies are corrected. Thus, only the most recent overhaul is relevant to the actions in paragraph (g)(2). We have revised paragraph (g)(2) of the final rule to include the words “most recent overhaul.”

Request To Clarify “Aircraft Maintenance Records”

The commenter requests that the term “aircraft maintenance records” be clarified in the final rule. The commenter states that the actual records do not contain detailed information about which corrosion-inhibiting compound was used to overhaul the MLG. According to the commenter, operators can only review the MLG component maintenance manual (CMM) and any associated documents to determine if Titanine JC5A CIC was ever used during overhaul. The commenter believes that a reference to the CMM should be specifically stated in the final rule.

We do not agree with the commenter. The NPRM used the phrases “airplane maintenance records,” and “airplane records,” which is consistent with the wording in Section 121.380 (“Maintenance Recording Requirements”) of the Federal Aviation Regulations (14 CFR 121.380). That regulation defines the maintenance recording requirements for certificate holders. The terms, as used in the NPRM, are not meant to imply that determination of the compound used must be determined from the airplane-level document; there may be other supporting documents that constitute part of “airplane maintenance records” or “airplane records.” Examples of such supporting documents include maintenance program documentation and maintenance task cards. We have not changed the final rule in this regard.

Request To Provide Instructions for Removing CIC JC5A and Approval Dates for CIC JC5A

The commenter requests more precise directions for cleaning/removing CIC JC5A from the three components and other bearings, bushings, and lugs that must be cleaned. The commenter would like to know which cleaning products should be used and if there are any cleaning products that should not be used. The commenter also requests information about the dates during which CIC JC5A was an approved substitute for Boeing Material Specification (BMS) 3-37 grease.

The comments do not pertain to the substance of the proposed rule and are best directed to the manufacturer. Any alternative procedures to the actions in this final rule may be used only if approved as an alternative method of compliance according to paragraph (l) of this AD.

Explanation of Additional Change Made to This AD

We have simplified paragraph (i)(2) of the final rule by referring to the “Alternative Methods of Compliance (AMOCs)” paragraph for repair methods.

Clarifications Made to This AD

To meet the requirements of the Office of the Federal Register for materials incorporated by reference, we have clarified paragraph (f) of the final rule to refer to the applicable service bulletin as “Boeing Service Bulletin 737-32A1367, Revision 1, dated December 23, 2004,” rather than “Boeing Alert Service Bulletin * * * .” Revision 1 of this service bulletin is not an alert service bulletin.

We have revised the wording in paragraph (h)(1)(i) of the final rule to clarify the compliance time to refer to the “date of issuance of the original standard airworthiness certificate or the date of issuance of the original export certificate of airworthiness,” rather than “the date of issuance of the original airworthiness certificate or the date of issuance of the original standard export certificate of airworthiness, whichever occurs later.” We find that the revised wording is more precise.

Clarification of Alternative Method of Compliance (AMOC) Paragraph

We have revised this action to clarify the appropriate procedure for notifying the principal inspector before using any approved AMOC on any airplane to which the AMOC applies.

Conclusion

We have carefully reviewed the available data, including the comments received, and determined that air safety and the public interest require adopting the AD with the changes described previously. We have determined that these changes will neither increase the economic burden on any operator nor increase the scope of the AD.

Costs of Compliance

There are about 3,132 airplanes of the affected design in the worldwide fleet. The following table provides the estimated costs for U.S. operators to comply with this AD.

Estimated Costs
Action | Work hours | Average labor rate per hour | Parts | Cost per airplane | Number of U.S.- registered airplanes | Fleet cost
Records examination | 1 | $65 | None | $65 | 1,748 | $113,620

For airplanes that require a detailed inspection, we estimate that the inspection would take about 3 work hours per airplane to accomplish, at an average labor rate of $65 per work hour. Based on these figures, we estimate that the detailed inspection would cost about $195 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-20-39 Boeing: Amendment 39-14336. Docket No. FAA-2005-21346; Directorate Identifier 2005-NM-031-AD.

Effective Date

(a) This AD becomes effective November 17, 2005.

Affected ADs

(b) None.

Applicability

(c) This AD applies to all Boeing Model 737-100, -200, -200C, -300, -400, and -500 series airplanes, certificated in any category.

Unsafe Condition

(d) This AD results from twelve reports of severe corrosion on one or more of three components of the main landing gear (MLG). We are issuing this AD to prevent collapse of the MLG, or damage to hydraulic tubing or the aileron control cables, which could result in possible departure of the airplane from the runway and loss of control of the airplane.

Compliance

(e) You are responsible for having the actions required by this AD performed within the compliance times specified, unless the actions have already been done.

Service Bulletin Reference

(f) The term “service bulletin,” as used in this AD, means the Accomplishment Instructions of Boeing Service Bulletin 737-32A1367, Revision 1, dated December 23, 2004.

Records Examination and Compliance Times

(g) For all airplanes: Before the inspection required by paragraph (h) of this AD, examine the airplane records to determine if the MLG has been overhauled, and, for any overhauled MLG, if JC5A corrosion inhibiting compound (CIC) was used on the trunnion pin or other parts of the MLG.

(1) For airplanes identified in the service bulletin as Group 2 and Group 4: If records indicate conclusively that the MLG has not been overhauled, no further action is required by this paragraph or paragraph (h) of this AD.

(2) For airplanes identified in the service bulletin as Group 1, Group 2, Group 3, and Group 4: If records indicate conclusively that the MLG has been overhauled and that CIC JC5A was not used on the trunnion pins or other parts of the MLG during the most recent overhaul, no further action is required by this paragraph or paragraph (h) of this AD.

Inspection and Corrective Action

(h) For all airplanes, except as provided by paragraph (g)(1) and (g)(2) of this AD: At the applicable compliance time in paragraph (h)(1) or (h)(2) of this AD, do a detailed inspection for discrepancies of the applicable MLG components specified in the service bulletin. Do all applicable corrective actions before further flight after the inspection. Do all the actions in accordance with the service bulletin, except as required by paragraph (i) of this AD.

(1) For airplanes identified in the service bulletin as Group 1 and Group 3 for which records indicate conclusively that the MLG has not been overhauled: Inspect at the later of the times in paragraph (h)(1)(i) and (h)(1)(ii) of this AD.

(i) Within 48 months after the date of issuance of the original standard airworthiness certificate or the date of issuance of the original export certificate of airworthiness.

(ii) Within 6 months after the effective date of this AD.

(2) For airplanes identified in the service bulletin as Group 1, Group 2, Group 3, and Group 4, for which records indicate conclusively that the MLG has been overhauled, and for which records indicate conclusively that CIC JC5A was used during the most recent overhaul; and for airplanes for which records do not show conclusively which CIC compound was used during the most recent overhaul: Inspect at the later of the times in paragraph (h)(2)(i) or (h)(2)(ii) of this AD.

(i) Within 48 months after the landing gear was installed.

(ii) Within 6 months after the effective date of this AD.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Contact Seattle Aircraft Certification Office (ACO) or Delegation Option Authorization (DOA) Organization for Certain Corrective Actions

(i) If any discrepancy is found during any inspection required by this AD, and the service bulletin specifies to contact Boeing for appropriate action: Before further flight, do the action using a method approved in accordance with paragraph (l) this AD.

Use of JC5A Prohibited

(j) As of the effective date of this AD, no person may use CIC JC5A on an MLG component on any airplane.

Actions Done According to Previous Revision of Service Bulletin

(k) Actions done before the effective date of this AD in accordance with Boeing Alert Service Bulletin 737-32A1367, dated August 19, 2004, are considered acceptable for compliance with the corresponding action specified in this AD.

Alternative Methods of Compliance (AMOCs)

(l)(1) The Manager, Seattle ACO, has the authority to approve AMOCs for this AD, if requested in accordance with the procedures found in 14 CFR 39.19.

(2) An AMOC that provides an acceptable level of safety may be used for any repair required by this AD, if it is approved by an Authorized Representative for the Boeing Commercial Airplanes DOA Organization who has been authorized by the Manager, Seattle ACO, to make those findings. For a repair method to be approved, the repair must meet the certification basis of the airplane, and the approval must specifically refer to this AD.

(3) Before using any AMOC approved in accordance with § 39.19 on any airplane to which the AMOC applies, notify the appropriate principal inspector in the FAA Flight Standards Certificate Holding District Office.

Material Incorporated by Reference

(m) You must use Boeing Service Bulletin 737-32A1367, Revision 1, dated December 23, 2004, to perform the actions that are required by this AD, unless the AD specifies otherwise. The Director of the Federal Register approved the incorporation by reference of this document in accordance with 5 U.S.C. 552(a) and 1 CFR part 51. Contact Boeing Commercial Airplanes, P.O. Box 3707, Seattle, Washington 98124-2207, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal _register/code_of_ federal_regulations/ibr_locations.html.

Issued in Renton, Washington, on September 30, 2005.
Ali Bahrami,
Manager, Transport Airplane Directorate, Aircraft Certification Service.

[FR Doc. 05-20262 Filed 10-12-05; 8:45 am]

BILLING CODE 4910-13-P